INTERNATIONAL TRADE COMMISSION

[Investigation No. 731-TA-990 (Review)]

Non-Malleable Cast Iron Pipe Fittings From China

Determination

On the basis of the record ¹ developed in the subject five-year review, the United States International Trade Commission (Commission) determines, pursuant to section 751(c) of the Tariff Act of 1930 (19 U.S.C. 1675(c)), that revocation of the antidumping duty order on non-malleable cast iron pipe fittings from China would be likely to lead to continuation or recurrence of material injury to an industry in the United States within a reasonably foreseeable time.

¹ The record is defined in section 207.2(f) of the Commission's Rules of Practice and Procedure (19 CFR 207.2(f)).

Background

The Commission instituted this review on March 3, 2008 (73 FR 11440) and determined on June 6, 2008 that it would conduct an expedited review (73 FR 34325, June 17, 2008).

The Commission transmitted its determination in this review to the Secretary of Commerce on July 24, 2008. The views of the Commission are contained in USITC Publication 4023 (July 2008), entitled Non-Malleable Cast Iron Pipe Fittings from China: Investigation No. 731-TA-990 (Review).

Issued: July 24, 2008.
By order of the Commission.
Marilyn R. Abbott,
Secretary to the Commission.

[FR Doc. E8-17664 Filed 7-31-08; 8:45 am]

BILLING CODE 7020-02-P